FEDERAL RESERVE SYSTEM

Formations of, Acquisitions by, and Mergers of Bank Holding Companies; Correction

This notice corrects a notice (FR Doc. 2013-08630) published on pages 21949-21950 of the issue for Friday, April 12, 2013.

Under the Federal Reserve Bank of St. Louis heading, the entry for Hopfed Bancorp, Inc., Hopkinsville, Kentucky, is revised to read as follows:

A. Federal Reserve Bank of St. Louis (Yvonne Sparks, Community Development Officer) P.O. Box 442, St. Louis, Missouri 63166-2034:

1. Hopfed Bancorp, Inc., Hopkinsville, Kentucky; to become a bank holding company through the conversion of its wholly owned subsidiary, Heritage Bank, Hopkinsville, Kentucky, from a federally chartered savings bank to a state charted commercial bank.

Comments on this application must be received by May 9, 2013.

Board of Governors of the Federal Reserve System, April 16, 2013.
Margaret McCloskey Shanks,
Deputy Secretary of the Board.

[FR Doc. 2013-09219 Filed 4-18-13; 8:45 am]

BILLING CODE 6210-01-P